DEPARTMENT OF THE INTERIOR

National Park Service

[NPS-WASO-NRNHL-DTS#-28781; PPWOCRADI0, PCU00RP14.R50000]

National Register of Historic Places; Notification of Pending Nominations and Related Actions

AGENCY: National Park Service, Interior.

ACTION: Notice.

SUMMARY: The National Park Service is soliciting comments on the significance of properties nominated before August 24, 2019, for listing or related actions in the National Register of Historic Places.

DATES: Comments should be submitted by September 27, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before August 24, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

MARYLAND

Carroll County

Cover's Tannery, 626 Francis Scott Key Hwy., Keymar, SG100004486

NEW MEXICO

Bernalillo County

Hoffmantown Baptist Church, 2335 Wyoming Blvd. NE, Albuquerque, SG100004492

Whitcomb Springs, 82 Carlito Springs Rd., Tijeras vicinity, SG100004498

PENNSYLVANIA

Carbon County

Grotto, The-Our Lady of Lourdes Shrine, 15 E Garibaldi Ave., Nesquehoning, 11000923

SOUTH CAROLINA

Greenville County

Holy Springs School, (African—American Primary and Secondary School Buildings MPS), 130 Holly Springs Rd., Belton vicinity, MP100004494

Lexington County

Chapin Commercial Historic District, Bounded by Lexington Ave., Beaufort St., Chapin Rd., and the rear lots along Columbia Ave., Chapin, SG100004495

TEXAS

Bexar County

Main and Military Plazas Historic District, Roughly bounded by San Antonio River, E Nueva, Laredo, and Houston Sts., San Antonio, BC100004489

An owner objection was received for the following resource:

CALIFORNIA

Los Angeles County

Japanese Hospital, (Asian Americans in Los Angeles), 101 S Fickett St., Los Angeles, MP100004488

Additional documentation has been received for the following resources:

MASSACHUSETTS

Hampshire County

Pomeroy Terrace Historic District, Pomeroy Terr., Phillips & Butler Pls., Bixby Ct., Hawley, Hancock, & Bridge Sts., Northampton, AD100002420

OKLAHOMA

Oklahoma County

Pioneer Telephone Company Warehouse and Garage, 1-13 NE 6th St., Oklahoma City, AD100002545

TEXAS

Bexar County

Main and Military Plazas Historic District, Roughly bounded by San Antonio River, E Nueva, Laredo, and Houston Sts., San Antonio, AD79002914

Nominations submitted by Federal Preservation Officer:

The State Historic Preservation Officer reviewed the following nomination and responded to the Federal Preservation Officer within 45 days of receipt of the nomination and supports listing the property in the National Register of Historic Places.

ARKANSAS

Garland County

Army & Navy Memorial Lodge, 570 Jobs Corps Rd., Royal, SG100004497

Authority: Section 60.13 of 36 CFR part 60.

Dated: August 26, 2019.
Julie H. Ernstein,
Supervisory Archeologist, National Register of Historic Places/National Historic Landmarks Program.

[FR Doc. 2019-19765 Filed 9-11-19; 8:45 am]

BILLING CODE 4312-52-P